DEPARTMENT OF HEALTH AND HUMAN SERVICES

Administration for Children and Families

Proposed Information Collection Activity; Comment Request

Title: Mother and Infant Home Visiting Program Evaluation (MIHOPE): Long-Term Follow-Up.

OMB No.: 0970-0402.

Description: The Administration for Children and Families (ACF), in partnership with the Health Resources and Services Administration (HRSA), both of the U.S. Department of Health and Human Services (HHS), is proposing a data collection activity as part of the Mother and Infant Home Visiting Program Evaluation Long-Term Follow-Up project (MIHOPE-LT). The purpose of MIHOPE-LT is to conduct follow-up studies that assess the long-term impact of the Maternal, Infant, and Early Childhood Home Visiting (MIECHV) Program. The design of MIHOPE-LT calls for multiple follow-up points including when the participating children are in kindergarten, 3rd grade, early adolescence, and late adolescence. This Federal Register Notice is specific to the first follow-up study. Data collected during the first follow-up study (when the children from the MIHOPE sample are of kindergarten age) will include the following: (1) A one-hour survey with the child's primary caregiver (who will be the mother if she is available), (2) direct assessments of child development, (3) a semi-structured interview with the caregiver, (4) surveys with the child's teacher, (5) a direct assessment of the caregiver, and (6) 15 minutes of videotaped interactions between the caregiver and child. In addition to collecting these data, the MIHOPE-LT project will also maintain up-to-date consent forms for the collection of administrative data. Future information collection requests and related Federal Register Notices will describe future data collection efforts for this project.

Data collected during the kindergarten follow-up study will be used to estimate the effects of MIECHV-funded programs on seven domains: (1) Maternal health; (2) child health; (3) child development and school performance; (4) child maltreatment; (5) parenting; (6) crime or domestic violence; and (7) family economic self-sufficiency.

Respondents: The respondents in this follow-up study will include 4,115 families who participated in MIHOPE and 4,115 teachers of the focal children from those families.

Annual Burden Estimates
Instrument | Total number of respondents | Annual number of respondents | Number of responses per respondent | Average burden hours per response | Annual burden hours
Survey of caregivers | 4115 | 1372 | 1 | 1 | 1372
Direct assessments of children | 4115 | 1372 | 1 | 1.5 | 2058
Semi-structured interview with caregivers | 100 | 33 | 1 | 2 | 66
Survey of the focal children's teachers | 4115 | 1372 | 1 | 0.5 | 686
Direct assessments of caregivers | 4115 | 1372 | 1 | 0.25 | 343
Videotaped caregiver-child interactions | 8230 | 2743 | 1 | 0.25 | 686

Estimated Total Annual Burden Hours: 5,211.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2018-01683 Filed 1-29-18; 8:45 am]

BILLING CODE 4184-77-P